DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, June 17, 2014, 08:30 a.m. to June 17, 2014, 12:00 p.m., Residence Inn Bethesda, 7335 Wisconsin Avenue, Bethesda, MD, 20814 which was published in the Federal Register on May 19, 2014, 79 FR 28740.

The meeting notice is amended to change the date of the ZHD1 Special Emphasis Panel meeting from June 17, 2014 to July 8, 2014. The meeting will now be a telephone conference call and will be closed to the public.

Dated: June 25, 2014.
Michelle Trout,
Program Analyst, Office of Federal Advisory Committee Policy.

[FR Doc. 2014-15299 Filed 6-30-14; 8:45 am]

BILLING CODE 4140-01-P